DEPARTMENT OF LABOR

Employment and Training Administration

[TA-W-52,382]

Capital Mercury Apparel, Ltd, Mar-Bax Shirt Company Division, Ark Management Consultants, Gassville, AR; Amended Certification Regarding Eligibility to Apply for Worker Adjustment Assistance

In accordance with section 223 of the Trade Act of 1974 (19 U.S.C. 2273) the Department of Labor issued a Certification of Eligibility to Apply for Worker Adjustment Assistance on August 22, 2003, applicable to workers of Capital Mercury Apparel, Ltd, Mar-Bax Shirt Company Division, Gassville, Arkansas. The notice was published in the Federal Register on September 17, 2003 (68 FR 54498).

At the request of the State agency, the Department reviewed the certification for workers of the subject firm. The workers are engaged in the production of men's woven dress and sports shirts.

New information shows that some workers separated from employment at the subject firm had their wages reported under a separate unemployment insurance (UI) tax account for Ark Management Consultants.

Accordingly, the Department is amending the certification to properly reflect this matter.

The intent of the Department's certification is to include all workers of Capital Mercury Apparel, Ltd, Mar-Bax Shirt Company Division, Ark Management Consultants, Gassville, Arkansas, who were adversely affected by a shift in production to Mexico.

The amended notice applicable to TA-W-52,382 is hereby issued as follows:

All workers of Capital Mercury Apparel, Ltd., Mar-Bax Shirt Company Division, Ark Management Consultants, Gassville, Arkansas, who became totally or partially separated from employment on or after July 23, 2002, through August 22, 2005, are eligible to apply for adjustment assistance under section 223 of the Trade Act of 1974.”

Signed at Washington, DC this 16th day of April 2004.
Elliott S. Kushner,
Certifying Officer, Division of Trade Adjustment Assistance.

[FR Doc. E4-1058 Filed 5-7-04; 8:45 am]

BILLING CODE 4510-13-P